DEPARTMENT OF THE TREASURY

Office of the Comptroller of the Currency

FEDERAL RESERVE SYSTEM

FEDERAL DEPOSIT INSURANCE CORPORATION

Agency Information Collection Activities; Submission for OMB Review; Comment Request

AGENCY: Office of the Comptroller of the Currency (OCC), Treasury; Board of Governors of the Federal Reserve System (Board); and Federal Deposit Insurance Corporation (FDIC).

ACTION: Joint notice and request for comment.

SUMMARY: In accordance with the requirements of the Paperwork Reduction Act of 1995 (PRA), the OCC, the Board, and the FDIC (the agencies) may not conduct or sponsor, and a respondent is not required to respond to, an information collection unless it displays a currently valid Office of Management and Budget (OMB) control number. On February 21, 2023, the agencies, under the auspices of the Federal Financial Institutions Examination Council (FFIEC), requested public comment for 60 days on a proposal to revise and extend the Consolidated Reports of Condition and Income (Call Reports) (FFIEC 031, FFIEC 041, and FFIEC 051), and the Report of Assets and Liabilities of U.S. Branches and Agencies of Foreign Banks (FFIEC 002), all of which are currently approved collections of information. These proposed revisions to the Call Reports and the FFIEC 002 result from the 2022 statutorily mandated review of the Call Reports, Call Report process revisions, and reporting of certain Federal Home Loan Mortgage Corporation and similar securitizations.

DATES: Comments must be submitted on or before July 13, 2023.

ADDRESSES: Interested parties are invited to submit written comments to any or all of the agencies. All comments will be shared among the agencies.

OCC: You may submit comments, by any of the following methods:

• Email: prainfo@occ.treas.gov.

• Mail: Chief Counsel's Office, Office of the Comptroller of the Currency, Attention: 1557-0081, 400 7th Street SW, Suite 3E-218, Washington, DC 20219.

• Hand Delivery/Courier: 400 7th Street SW, Suite 3E-218, Washington, DC 20219.

Instructions: You must include “OCC” as the agency name and “1557-0081” in your comment.

In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

You may review comments and other related materials that pertain to this information collection beginning on the date of publication of the second notice for this collection by the following method:

• Viewing Comments Electronically: Go to www.reginfo.gov. Hover over the “Information Collection Review” tab and click on “Information Collection Review.” Underneath the “Currently under Review” section heading, from the drop-down menu select “Department of the Treasury” and then click “submit.” This information collection can be located by searching by OMB control number “1557-0081.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

Board: You may submit comments, which should refer to “Call Report and FFIEC 002 Revisions,” by any of the following methods:

• Agency Website: https://www.federalreserve.gov. Follow the instructions for submitting comments at: https://www.federalreserve.gov/generalinfo/foia/ProposedRegs.cfm.

• Email: regs.comments@federalreserve.gov. Include “Call Report and FFIEC 002 Revisions” in the subject line of the message.

• Fax: (202) 395-6974.

• Mail: Ann E. Misback, Secretary, Board of Governors of the Federal Reserve System, 20th Street and Constitution Avenue NW, Washington, DC 20551.

In general, all public comments will be made available on the Board's website at www.federalreserve.gov/generalinfo/foia/ProposedRegs.cfm as submitted, and will not be modified to remove confidential, contact or any identifiable information.

FDIC: You may submit comments, which should refer to “Call Report and FFIEC 002 Revisions,” by any of the following methods:

• Agency Website: https://www.fdic.gov/resources/regulations/federal-register-publications/. Follow the instructions for submitting comments on the FDIC's website.

• Email: comments@FDIC.gov. Include “Call Report (FFIEC 002) Revisions” in the subject line of the message.

• Mail: Manuel E. Cabeza, Counsel, Attn: Comments, Room MB-3128, Federal Deposit Insurance Corporation, 550 17th Street NW, Washington, DC 20429.

• Hand Delivery: Comments may be hand delivered to the guard station at the rear of the 550 17th Street NW building (located on F Street NW) on business days between 7 a.m. and 5 p.m.

• Public Inspection: All comments received will be posted without change to https://www.fdic.gov/resources/regulations/federal-register-publications/, including any personal information provided. Paper copies of public comments may be requested from the FDIC Public Information Center by telephone at (877) 275-3342 or (703) 562-2200.

Additionally, commenters may send a copy of their comments to the OMB desk officer for the agencies by mail to the Office of Information and Regulatory Affairs, U.S. Office of Management and Budget, New Executive Office Building, Room 10235, 725 17th Street NW, Washington, DC 20503; by fax to (202) 395-6974; or by email to oira_submission@omb.eop.gov.

FOR FURTHER INFORMATION CONTACT: For further information about the proposed revisions to the information collections discussed in this notice, please contact any of the agency staff whose names appear below. In addition, copies of the report forms for the Call Reports can be obtained at the FFIEC's website (https://www.ffiec.gov/ffiec_report_forms.htm).

OCC: Kevin Korzeniewski, Counsel, Chief Counsel's Office, (202) 649-5490. If you are deaf, hard of hearing, or have a speech disability, please dial 7-1-1 to access telecommunications relay services.

Board: Nuha Elmaghrabi, Federal Reserve Board Clearance Officer, (202) 452-3884, Office of the Chief Data Officer, Board of Governors of the Federal Reserve System, 20th and C Streets NW, Washington, DC 20551. For users of telephone systems via text telephone (TTY) or any TTY-based Telecommunications Relay Services (TRS), please call 711 from any telephone, anywhere in the United States.

FDIC: Manuel E. Cabeza, Counsel, (202) 898-3767, Legal Division, Federal Deposit Insurance Corporation, 550 17th Street NW, Washington, DC 20429.

SUPPLEMENTARY INFORMATION: The comment period for the February, 2023 notice ended on April 24, 2023. After considering the comments received on the proposal, the FFIEC and the agencies are proceeding with the proposed revisions related to the 2022 statutorily mandated review, with certain modifications. These reporting revisions would take effect for the September 30, 2023, report date, rather than as of the June 30, 2023, report date, as originally proposed. The agencies are continuing to review the reporting of certain Federal Home Loan Mortgage Corporation and similar securitizations.

The agencies also are proposing clarifications to the reporting instructions for certain items on Schedule RC-T, Fiduciary and Related Services.

The agencies hereby give notice of their plan to submit to OMB a request to approve the revision and extension of these information collections, and again invite comment on the renewal.

Table of Contents

I. Report Summary

A. Call Report

B. FFIEC 002 and FFIEC 002S

II. Current Actions

A. Background

B. Proposed Changes and Comments Received

1. Statutorily Mandated Review

2. Call Report Process Changes

3. Clarification of Reporting Certain Securitizations

4. Other Comments Received

C. Proposed Instructional Clarifications to Schedule RC-T, Fiduciary and Related Services

III. Timing

IV. Request for Comment

I. Report Summary

A. Call Report

The agencies propose to extend for three years, with revision, their information collections associated with the FFIEC 031, FFIEC 041, and FFIEC 051 Call Reports.

Report Title: Consolidated Reports of Condition and Income (Call Report).

Form Number: FFIEC 031 (Consolidated Reports of Condition and Income for a Bank with Domestic and Foreign Offices), FFIEC 041 (Consolidated Reports of Condition and Income for a Bank with Domestic Offices Only), and FFIEC 051 (Consolidated Reports of Condition and Income for a Bank with Domestic Offices Only and Total Assets Less Than $5 Billion).

Frequency of Response: Quarterly.

Affected Public: Business or other for-profit.

Type of Review: Revision and extension of currently approved collections.

OCC

OMB Control No.: 1557-0081.

Estimated Number of Respondents: 1,015 national banks and federal savings associations.

Estimated Average Burden per Response: 40.68 burden hours per quarter to file.

Estimated Total Annual Burden: 165,161 burden hours to file.

Board

OMB Control No.: 7100-0036.

Estimated Number of Respondents: 699 state member banks.

Estimated Average Burden per Response: 44.13 burden hours per quarter to file.

Estimated Total Annual Burden: 123,387 burden hours to file.

FDIC

OMB Control No.: 3064-0052.

Estimated Number of Respondents: 2,990 insured state nonmember banks and state savings associations.

Estimated Average Burden per Response: 38.87 burden hours per quarter to file.

Estimated Total Annual Burden: 464,885 burden hours to file.

The estimated average burden hours collectively reflect the estimates for the FFIEC 031, the FFIEC 041, and the FFIEC 051 reports for each agency. When the estimates are calculated by type of report across the agencies, the estimated average burden hours per quarter are 84.53 (FFIEC 031), 54.60 (FFIEC 041), and 34.41 (FFIEC 051). These estimates represent a reduction of 1.96 hours (FFIEC 031), 0.93 (FFIEC 041) and 0.97 hours (FFIEC 051) per quarter compared with the prior estimates approved by OMB. The changes are due to the revisions proposed in this notice, change in the number of institutions filing each type of report, and change to the amount of data items reported in each report. The estimated burden per response for the quarterly filings of the Call Report is an average that varies by agency because of differences in the composition of the institutions under each agency's supervision (e.g., size distribution of institutions, types of activities in which they are engaged, and existence of foreign offices).

Type of Review: Extension and revision of currently approved collections. In addition to the proposed revisions discussed below, Call Reports are periodically updated to clarify instructional guidance and correct grammatical and typographical errors on the forms and instructions, which are published on the FFIEC website.¹ These non-substantive updates may also be commented upon.

¹ www.ffiec.gov/forms031.htm; www.ffiec.gov/forms041.htm; www.ffiec.gov/forms051.htm.

Legal Basis and Need for Collections

The Call Report information collections are mandatory: 12 U.S.C. 161 (national banks), 12 U.S.C. 324 (state member banks), 12 U.S.C. 1817 (insured state nonmember commercial and savings banks), and 12 U.S.C. 1464 (federal and state savings associations). At present, except for selected data items and text, these information collections are not given confidential treatment.

Banks and savings associations submit Call Report data to the agencies each quarter for the agencies' use in monitoring the condition, performance, and risk profile of individual institutions and the industry as a whole. Call Report data serve a regulatory or public policy purpose by assisting the agencies in fulfilling their shared missions of ensuring the safety and soundness of financial institutions and the financial system and protecting consumer financial rights, as well as agency-specific missions affecting federal and state-chartered institutions, such as conducting monetary policy, ensuring financial stability, and administering federal deposit insurance. Call Reports are the source of the most current statistical data available for identifying areas of focus for on-site and off-site examinations. Among other purposes, the agencies use Call Report data in evaluating institutions' corporate applications, including interstate merger and acquisition applications for which the agencies are required by law to determine whether the resulting institution would control more than 10 percent of the total amount of deposits of insured depository institutions in the United States. Call Report data also are used to calculate the risk-based assessments for insured depository institutions.

B. FFIEC 002 and 002S

The Board proposes to extend for three years, with revision, the FFIEC 002 and FFIEC 002S reports.

Report Titles: Report of Assets and Liabilities of U.S. Branches and Agencies of Foreign Banks; Report of Assets and Liabilities of a Non-U.S. Branch that is Managed or Controlled by a U.S. Branch or Agency of a Foreign (Non-U.S.) Bank.

Form Numbers: FFIEC 002; FFIEC 002S.

OMB Control Number: 7100-0032.

Frequency of Response: Quarterly.

Affected Public: Business or other for-profit.

Respondents: All state-chartered or federally-licensed U.S. branches and agencies of foreign banking organizations, and all non-U.S. branches managed or controlled by a U.S. branch or agency of a foreign banking organization.

Estimated Number of Respondents: FFIEC 002—183; FFIEC 002S—18.

Estimated Average Burden per Response: FFIEC 002—24.67 hours; FFIEC 002S—6.0 hours.

Estimated Total Annual Burden: FFIEC 002—18,058 hours; FFIEC 002S—432 hours.

Type of Review: Extension and revision of currently approved collections.

The proposed revisions to the FFIEC 002 instructions in this notice would not have a material impact on the existing burden estimates.

Legal Basis and Need for Collection

On a quarterly basis, all U.S. branches and agencies of foreign banks are required to file the FFIEC 002, which is a detailed report of condition with a variety of supporting schedules. This information is used to fulfill the supervisory and regulatory requirements of the International Banking Act of 1978. The data also are used to augment the bank credit, loan, and deposit information needed for monetary policy and other public policy purposes. In addition, FFIEC 002 data are used to calculate the risk-based assessments for FDIC-insured U.S. branches of foreign banks. The FFIEC 002S is a supplement to the FFIEC 002 that collects information on assets and liabilities of any non-U.S. branch that is managed or controlled by a U.S. branch or agency of the foreign bank. A non-U.S. branch is managed or controlled by a U.S. branch or agency if a majority of the responsibility for business decisions, including but not limited to decisions with regard to lending or asset management or funding or liability management, or the responsibility for recordkeeping in respect of assets or liabilities for that foreign branch resides at the U.S. branch or agency. A separate FFIEC 002S must be completed for each managed or controlled non-U.S. branch. The FFIEC 002S must be filed quarterly along with the U.S. branch or agency's FFIEC 002.

These information collections are mandatory (12 U.S.C. 3105(c)(2), 1817(a)(1) and (3), and 3102(b)). Except for select sensitive items, the FFIEC 002 is not given confidential treatment; the FFIEC 002S is given confidential treatment pursuant to 5 U.S.C. 552(b)(4) and (8). The data from both reports are used for (1) monitoring deposit and credit transactions of U.S. residents; (2) monitoring the impact of policy changes; (3) analyzing structural issues concerning foreign bank activity in U.S. markets; (4) understanding flows of banking funds and indebtedness of developing countries in connection with data collected by the International Monetary Fund and the Bank for International Settlements that are used in economic analysis; and (5) assisting in the supervision of U.S. offices of foreign banks. The Federal Reserve System collects and processes these reports on behalf of all three agencies.

II. Current Actions

A. Background

On February 21, 2023, the agencies proposed revisions to all three versions of the Call Report (FFIEC 031, FFIEC 041 and the FFIEC 051) and the FFIEC 002 resulting from the 2022 statutorily mandated full review, along with proposed Call Report process improvements and reporting of certain securitizations (February notice).² The comment period for the February notice ended on April 24, 2023. The agencies received three comments on the February notice.

² 88 FR 10644 (Feb. 21, 2023).

Additionally, in response to questions received from preparers of the Call Report and other stakeholders, as well as to promote consistent reporting across all institutions, the agencies are clarifying the instructions on the reporting of certain items on Schedule RC-T, Fiduciary and Related Services, as detailed in Section II.C of this SUPPLEMENTARY INFORMATION.

B. Proposed Changes and Comments Received

1. Statutorily Mandated Review

As a result of the statutorily mandated review required by Section 604 of the of the Financial Services Regulatory Relief Act of 2006,³ the agencies identified multiple items for removal or consolidation. These items related to FDIC loss-sharing agreements, negative amortization loans, reverse mortgages, and the money market mutual fund liquidity facility (MMLF). Additional detail about the specific line items impacted is included in the February notice.

³ 12 U.S.C. 1817(a)(11).

One commenter generally supported the removal of items no longer necessary in connection with the statutorily mandated review. This commenter also requested removal of Schedule RC-C, Memorandum items 17.a and 17.b, which collect information regarding the number and amount of loans modified pursuant to Section 4013 of the CARES Act.⁴ The commenter noted that similar items previously were removed from bank holding company reports. These items relate to loan modifications or restructurings, which the agencies are planning to address in a more comprehensive proposal. Therefore, the agencies will retain these items for now but will consider the commenter's input when developing that proposal, which will follow the standard notice and comment process pursuant to the Paperwork Reduction Act.

⁴ Public Law 116-136, 4013 (2020).

After further deliberation and recent loss-share transactions established by the FDIC, the agencies decided to retain and redesignate certain items related to FDIC loss-sharing agreements that had been proposed for removal. These items are necessary solely for FDIC deposit insurance assessment purposes. On the FFIEC 031 and FFIEC 041 Call Report forms, the retained items are:

• Schedule RC-M, item 13.b.(7), “Portion of covered other real estate owned included in items 13.b.(1) through (6) above that is protected by FDIC loss-sharing agreements.” This item would be redesignated as item 13 and reflect the total of other real estate owned that is protected by FDIC loss-sharing arrangements. The agencies still would discontinue all other subitems of item 13, including subitems 13.b.(1) through 13.b.(6), 13.c and 13.d, as this information is not necessary for deposit insurance assessment or other purposes.

• Schedule RC-N, item 12.f, “Portion of covered loans and leases included in items 12.a through 12.e above that is protected by FDIC loss-sharing agreements” (Columns A, B, and C). This item would be redesignated as item 12 and reflect the total of loans and leases protected by FDIC loss-sharing arrangements. The agencies still would discontinue subitems 12.a through 12.e, as this information is not necessary for deposit insurance assessment or other purposes.

On the FFIEC 051, the agencies will also retain the following subitems of Schedule SU, item 9.c, “Portion of past due and nonaccrual covered loans and leases that is protected by FDIC loss-sharing agreements:”

• Schedule SU, item 9.c.(2), “Past due 90 days or more and still accruing.”

• Schedule SU, item 9.c.(3), “Nonaccrual.”

These items would be moved to Schedule RC-N, Past Due and Nonaccrual Loans, Leases, and Other Assets, and redesignated as item 12, “Portion of loans and leases covered by FDIC loss-sharing agreements,” with reporting in column B, “Past due 90 days or more and still accruing” and column C, “Nonaccrual,” which would be consistent with the FFIEC 031 and FFIEC 041 forms. The agencies still would discontinue the other subitems under Schedule SU, item 9, FDIC Loss-Sharing Agreements, as this information is not necessary for deposit insurance assessment or other purposes.

The agencies are proceeding with the removal or consolidation of the other items described in the February notice. While the agencies had proposed removing these items as of June 30, 2023, due to the time needed to update systems for the Call Reports, the agencies instead propose to remove or consolidate the items related to negative amortization loans, reverse mortgages, MMLF and FDIC loss-sharing agreements, as described above, effective as of the September 30, 2023, report date.

Furthermore, to maintain consistency of reporting between the Call Report and the FFIEC 002, the Board proposed in the February notice to remove from Schedule O, Other Data for Deposit Insurance Assessments, Memorandum item 7, “Quarterly average amount of holdings of assets purchased from money market funds under the Money Market Mutual Fund Liquidity Facility” and intend to remove this item, also effective for the September 30, 2023, report date.

2. Call Report Process Changes

In the February notice, the agencies had proposed changes to improve efficiency and usability of the Call Report. Specifically, the agencies proposed providing the Call Report instructions and the instructional updates using the Portable Document Format instead of the binder format and would discontinue preparing the optional tax worksheet. No comments were received on these process changes, and the agencies will discontinue the optional tax worksheet starting with the June 30, 2023, report date. The agencies are continuing to review alternatives to providing the Call Report instructions and the instructional updates in a format other than the existing binder format.

3. Clarification of Reporting Certain Securitizations

In the February notice, the agencies had proposed a change to clarify reporting of certain Federal Home Loan Mortgage Corporation and similar securitization structures that have government guarantees in the Call Report. The agencies had proposed clarifying that these securitizations should be reported in Schedule RC-B, Securities, item 5.b., “Structured financial products.”

Two comments were received on this clarification. One comment opposed reporting of these securities in Schedule RC-B, Securities, item 5.b, noting that this item includes a broad range of structured financial products, and there would be a lack of clarity on the amount of securities reported in this item that is guaranteed by a government or agency. The other comment supported reporting these securities in item 5.b. However, the commenter also noted the lack of transparency in this item regarding the proportion of securities with government guarantees. The commenter requested that a subcategory be added to item 5.b to report the amount that was guaranteed by the U.S. government or an agency. The agencies are continuing to review the original clarification and the new item proposed by the commenter.

4. Other Comments Received

The agencies also received requests from two commenters on the Call Report that were not specifically related to any of the proposed changes.

One commenter requested the agencies to provide clarification on how long an institution would continue to report a loan subsequent to its modification that met the criteria in Accounting Standards Update 2022-02, “Financial Instruments—Credit Losses (Topic 326): Troubled Debt Restructurings and Vintage Disclosures” (ASU 2022-02) in the Call Report. The agencies plan to propose revisions to the Call Report in response to ASU 2022-02 and will consider these comments at that time. This proposal would follow the standard notice and comment process pursuant to the PRA.

The other commenter requested that the agencies expand the level of detail on interest and fee income collected in the Call Report on Schedule RI, Income Statement, to align with each loan category reported on Schedule RC-C, Part I, Loans and Leases. The agencies are declining to make any changes to the level of detail on loan income at this time. The current level of detail strikes the appropriate balance between the information necessary for monitoring the condition and performance of individual institutions and the industry with the effort required by those organizations to separately collect and report interest and fee income information by loan category.

C. Proposed Instructional Clarifications to Schedule RC-T, Fiduciary and Related Services

In response to questions received on the reporting of managed and non-managed assets and number of managed and non-managed accounts on Schedule RC-T, Fiduciary and Related Services, and to promote consistent reporting across all institutions, the agencies are proposing to clarify the instructions for these items as of the September 30, 2023, report date. Specifically:

• Reporting of life insurance trusts. The agencies have observed inconsistent reporting of life insurance trusts and are clarifying that life insurance trusts, other than term life insurance policies that have nominal value, should be reported in Schedule RC-T, item 4, “Personal trust and agency accounts.” Relatedly, the agencies are proposing to clarify in the “Fiduciary and Related Assets” section of the Schedule RC-T instructions that the cash surrender value of a life insurance policy generally may be used when calculating the value of the account.

• Classification of investment advisory employee benefit accounts. The agencies have observed inconsistent reporting of employee benefit accounts for which the institution provides investment services or investment advice for a fee and whether those accounts are classified as managed or non-managed in item 5, “Employee benefit and retirement-related trust and agency accounts.” The agencies are proposing to clarify in Schedule RC-T, items 5.a through 5.c, that accounts for which the institution serves as either trustee or agent and provides investment management services, or provides investment advice for a fee, should be reported in one of the subcategories of item 5. The agencies are further proposing to clarify that accounts for which the institution serves as a directed trustee or provides investment advice for a fee should be reported under non-managed accounts. In addition, the agencies are proposing to clarify that employee benefit accounts for which the institution provides investment management or investment advisory services should not be reported in Schedule RC-T, item 7, “Investment management and investment advisory agency accounts.”

• Primary relationship test. The agencies have observed inconsistent reporting of trust accounts for which the institution has both a fiduciary and custodial relationship. The current instructions for Schedule RC-T, item 11, “Custody and safekeeping accounts” indicate that the institution should report the account under the primary relationship. The agencies are proposing to clarify in the instructions for this item that when an institution has both a fiduciary and custodial relationship, the fiduciary relationship is the primary relationship. In this case, the account should be reported as a fiduciary account in Schedule RC-T, items 4 through 9, and it should not be reported as a custodial account in item 11.

• Back-office services. The agencies have received questions about whether accounts for which the institution provides back-office or operational services for a third party, but does not hold the account, should be reported along with custody and safekeeping accounts. The agencies are proposing to revise the “Fiduciary and Related Assets” section of the Schedule RC-T instructions to clarify that accounts for which the institution only provides back-office or operational services and the accounts or assets are not held by the institution should not be reported in Schedule RC-T.

The agencies are proposing to incorporate these clarifications starting with the September 30, 2023, report date. The agencies would expect institutions that are not currently reporting consistent with these clarifications to incorporate the clarifications on a best-efforts basis over the four subsequent quarterly reports.

III. Timing

The revisions to the Call Report and the FFIEC 002 resulting from the statutorily mandated full review related to certain loss-sharing agreements with the FDIC, negative amortization loans, reverse mortgages, and MMLF items, and the proposed clarifications to the instructions for Schedule RC-T, will be effective as of the September 30, 2023, report date, subject to OMB approval. The agencies plan to discontinue the optional tax worksheet as part of the implementation of the Call Report process changes starting with the June 30, 2023, report date.

IV. Request for Comment

Public comment is requested on all aspects of this joint notice. Comment is specifically invited on:

(a) Whether the proposed revisions to the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start-up costs and costs of operation, maintenance, and purchase of services to provide information.

Comments submitted in response to this joint notice will be shared among the agencies.

Theodore J. Dowd,
Deputy Chief Counsel, Office of the Comptroller of the Currency.
Board of Governors of the Federal Reserve System.
Michele Taylor Fennell,
Deputy Associate Secretary of the Board.
Federal Deposit Insurance Corporation.
Dated at Washington, DC, on June 6, 2023.
James P. Sheesley,
Assistant Executive Secretary.

[FR Doc. 2023-12553 Filed 6-12-23; 8:45 am]

BILLING CODE 4810-33-P; 6210-01-P; 6714-01-P